DEPARTMENT OF THE INTERIOR

Fish and Wildlife Service

[FWS-HQ-ES-2018-N157; FXES11130100000C4-189-FF02ENEH00]

Endangered and Threatened Wildlife and Plants; 29 Draft Recovery Plan Revisions for 42 Species Across the United States

AGENCY: Fish and Wildlife Service, Interior.

ACTION: Notice of availability; opening of public comment period.

SUMMARY: We, the U.S. Fish and Wildlife Service (Service), announce for public review and comment the availability of 29 draft recovery plan revisions, which update recovery criteria for 42 endangered or threatened species located in 11 States (Alabama, California, Florida, Georgia, Hawaii, Louisiana, Massachusetts, Nevada, New Jersey, North Carolina, and South Carolina) and 4 unincorporated territories (Guam, the Commonwealth of Puerto Rico, the Commonwealth of the Northern Mariana Islands and the U.S. Virgin Islands). We are updating recovery criteria to better assist in determining when an endangered species has recovered to the point that it may be reclassified as threatened, or that the protections afforded by the Endangered Species Act of 1973, as amended (Act), are no longer necessary and the species may be removed from the Act's protections. We request review of these draft recovery plan revisions and comments from local, State, Tribal, and Federal agencies, nongovernmental organizations, and the public.

DATES: In order to be considered, comments on the draft recovery plan revisions must be received on or before July 29, 2019.

ADDRESSES:

Reviewing documents: If you wish to review these draft recovery plan revisions, you may obtain copies from the website addresses listed in the table provided in SUPPLEMENTARY INFORMATION. You may also request copies of draft recovery plan revisions by contacting the individuals listed in the table provided in this notice, relevant to each species or recovery plan, or both.

Submitting comments: If you wish to comment, see the table provided in this notice and you may submit your comments by one of the following methods:

1. You may submit written comments and materials to each field office mailing address for the species in which you are interested;

2. You may hand-deliver written comments to each field office, in the table at the identified address, for the species in which you are interested; or

3. You may send comments by email to the identified contact person's email address in the table, for each species. Please include “Amended Recovery Plan Comments” in the subject line.

FOR FURTHER INFORMATION CONTACT: For information on a particular species, contact the appropriate person listed in the table for each species in SUPPLEMENTARY INFORMATION. Individuals who are hearing impaired may call the Federal Relay Service at 800-877-8339 for TTY assistance.

SUPPLEMENTARY INFORMATION:

Background

In this notice, we announce for public review and comment the availability of 29 draft recovery plan revisions, which update recovery criteria for 42 endangered or threatened species located in 11 States (Alabama, California, Florida, Georgia, Hawaii, Louisiana, Massachusetts, Nevada, New Jersey, North Carolina, and South Carolina) and 4 unincorporated territories (Guam, the Commonwealth of Puerto Rico, the Commonwealth of the Northern Mariana Islands and the U.S. Virgin Islands). This group of 29 draft recovery plan revisions is the second batch of a larger effort under way to revise up to 182 recovery plans covering up to 305 species in order to achieve the following Department of the Interior Agency Priority Performance Goal outlined in the Department's Strategic Plan for Fiscal Years 2018-2022: “By September 30, 2019, 100% of all Fish and Wildlife Service recovery plans will have quantitative criteria for what constitutes a recovered species.” Given the timeline associated with this Agency Priority Performance goal, we are relying on the public comment period to facilitate an efficient communication, coordination, and collaboration process with the wide variety of potential stakeholders we consider essential to the development and implementation of recovery plans. Recovery plans must be designed so that all stakeholders and the public understand the rationale behind the recovery program, whether they were involved in writing the plan or not, and recognize their role in its implementation. We are, therefore, requesting submission of any information that may help achieve (1) the necessary understanding of species' biology, threats, and recovery needs; (2) identification of implementation issues and concerns; and (3) facilitation of more effective implementation associated with these draft revisions that revise recovery criteria for these 42 species.

The Service is required to develop and implement recovery plans “for the conservation and survival” of listed species under section 4(f) of the Act, unless the Service finds that developing a recovery plan would not promote the conservation of the species. The Act also requires inclusion of: (1) “Site-specific management actions as may be necessary to achieve the plan's goal for the conservation and survival of the species”; (2) “Objective, measurable criteria which, when met, would result in a determination . . . that the species be removed from the list”; and (3) “Estimates of the time required and the cost to carry out those measures needed to achieve the plan's goal and to achieve intermediate steps toward that goal.”

The purpose of a recovery plan is to provide a roadmap for a species' recovery, with the goal of improving its status and managing its threats to the point at which protections under the Act are no longer needed. A recovery plan identifies, organizes, and prioritizes recovery actions and is, therefore, an important guide to ensure sound scientific decision-making throughout the recovery process, which can take decades. Recovery plans provide important guidance to the Service, States, other partners, and the general public on methods of minimizing threats to listed species and measurable objectives against which to measure the progress towards recovery; they are guidance and not regulatory documents.

Recovery plans should be consulted frequently, used to initiate recovery activities, and updated as needed. Keeping recovery plans current will ensure that the species benefits through timely, partner-coordinated implementation, based on the best available information. A review of the recovery plan and its implementation, however, may show that the recovery plan is out of date or its usefulness is limited and, therefore, warrants modification. The need for, and extent of, recovery plan modifications will vary considerably among recovery plans, depending on the scope and complexity of the initial plan, the structure of the document, and the involvement of stakeholders.

The need for revision may be triggered when, among other possibilities: (1) New information has been identified, such as population-level threats to the species or previously unknown life-history traits, that necessitates new or revised recovery strategy, actions, or criteria, or revision of all three; (2) the current recovery plan is out of date with regard to the information presented in it or requirements for an adequate recovery plan (a recovery strategy, threats-based recovery criteria, etc.); or (3) the current plan is not achieving its objectives. An amendment, a type of recovery plan revision, is more limited in scope than a full revision of the recovery plan and modifies an existing plan, rather than replacing the entire existing recovery plan. Revisions benefit endangered and threatened species, our partners, and the public by incorporating new information about life history, threats, and/or species' response to management from study findings and focusing on what is really needed for species' recovery. Twenty-eight of the 29 proposed recovery plan revisions noticed in this announcement are modified with amendments that replace only a portion of those plans, while one recovery plan (Draft Revised Recovery Plan for Valley Elderberry Longhorn Beetle) is fully revised and completely replaces the existing plan.

Recovery criteria serve as objective, measurable guidelines to assist in determining when an endangered species has recovered to the point that it may be downlisted to threatened, or that the protections afforded by the Act are no longer necessary and the species may be delisted. Delisting is the removal of a species from the Federal Lists of Endangered and Threatened Wildlife and Plants. Downlisting is the reclassification of a species from an endangered species to a threatened species. The term “endangered species” means any species (species, subspecies, or distinct population segment) that is in danger of extinction throughout all or a significant portion of its range. The term “threatened species” means any species which is likely to become an endangered species within the foreseeable future throughout all or a significant portion of its range.

Recovery criteria should help indicate when we would anticipate that an analysis of the species' status under section 4(a)(1) of the Act would result in a determination that the species is no longer an endangered species or a threatened species. A decision to revise the status of or remove a species from the Federal Lists of Endangered and Threatened Wildlife and Plants, however, is ultimately based on an analysis of the threats to the species in accordance with sections 4(a)(1) and 4(b) of the Act and made “solely on the basis of the best scientific and commercial data available,” regardless of whether that information differs from the recovery plan. When changing the status of a species, we first propose the action in the Federal Register to seek public comment and peer review, followed by a final decision announced in the Federal Register.

Revision of recovery plans requires public notice and comment under section 4(f)(4) of the Act, including: (1) A Federal Register notice of availability to give opportunity for public review and comment; (2) consideration of all information presented during the public comment period; and (3) approval by the Regional Director. When finalized, these recovery plan revisions will be made publicly available on the internet through our Environmental Conservation Online System (ECOS, https://ecos.fws.gov).

What plans are being made available for public review and comment?

This notice announces our draft recovery plan revisions for the species listed in the table below.

Proposed Recovery Plan Revisions
Common name | Scientific name | Listing status ¹ | Current range | Recovery plan name | Uniform resource locator to proposed recovery plan revision | Contact person, phone, email | Contact person's U.S. mail address
Pacific Region (Idaho, Oregon, Washington, Hawaii, and the Pacific Islands)
Laysan finch | Telespyza cantans | E | HI | Northwestern Hawaiian Islands Passerines Recovery Plan ² | https://ecos.fws.gov/docs/recovery_plan/NWHI_Passerine_Draft_Recovery_Plan_Amendment_20181109.pdf | Gregory A. Koob, 808-792-9449, gregory_koob@fws.gov | Pacific Islands Fish and Wildlife Office, 300 Ala Moana Boulevard, Room 3-122, Box 50088, Honolulu, HI 96850.
Nihoa finch | Telespyza ultima | E | HI
Nihoa millerbird | Acrocephalus familiaris kingi | E | HI
Guam rail | Rallus owstoni | E | Guam | Native Forest Birds of Guam and Rota of the Commonwealth of the Northern Mariana Islands Recovery Plan ² | https://ecos.fws.gov/docs/recovery_plan/Guam_Rail_Draft_Recovery_Plan_Amendment_20181109.pdf
Mariana gray swiftlet | Aerodramus vanikorensis bartschi | E | Guam, Northern Mariana Islands | Mariana Islands Population of the Vanikoro Swiftlet (Aerodramus vanikorensis bartschi) ² | https://ecos.fws.gov/docs/recovery_plan/Mariana_Swiftlet_Draft_Recovery_Plan_Amendment_20181109.pdf
Rota bridled white-eye | Zosterops rotensis | E | Guam, Northern Mariana Islands | Recovery Plan for the Nosa Luta or Rota Bridled White-Eye (Zosterops rotensis) ² | https://ecos.fws.gov/docs/recovery_plan/Rota_Bridled_White_Eye_Draft_Recovery_Plan_Amendment_20181109.pdf
Mariana common moorhen | Gallinula chloropus guami | E | Northern Mariana Islands | Recovery Plan for the Mariana Common Moorhen (Gallinula chloropus guami) ² | https://ecos.fws.gov/docs/recovery_plan/Mariana_Common_Moorhen_Draft_Recovery_Plan_Amendment_20181109.pdf
Southeast Region (Alabama, Arkansas, Florida, Georgia, Kentucky, Louisiana, Mississippi, North Carolina, South Carolina, Tennessee, Puerto Rico, and the U.S. Virgin Islands)
Interrupted rocksnail | Leptoxis foremani | E | AL, GA | Recovery Plan for Georgia Pigtoe Mussel (Pleurobema hanleyianum) Interrupted rocksnail (Leptoxis foremani), and Rough hornsnail (Pleurocera foremani) ² | https://ecos.fws.gov/docs/recovery_plan/Interrupted%20Rocksnail%20Recovery%20Plan%20Amendment.pdf | Tom McCoy, 843-727-4707, thomas_mccoy@fws.gov | South Carolina Ecological Services Field Office, 176 Croghan Spur Road, Suite 200, Charleston, SC 29407.
American chaffseed | Schwalbea americana | E | AL, FL, GA, LA, MA, NJ, NC, SC | American Chaffseed (Schwalbea americana) Recovery Plan ² | https://ecos.fws.gov/docs/recovery_plan/Recovery%20Plan%20Schwalbea%20americana_Amendment.pdf | William J. Pearson, 251-441-5870, bill_pearson@fws.gov | Alabama Ecological Services Field Office, 1208-B Main Street, Daphne, AL 36526.
Palo de Ramon | Banara vanderbiltii | E | Puerto Rico | Banara vanderbiltii Recovery Plan ² | https://ecos.fws.gov/docs/recovery_plan/Final%20Draft%20Recovery%20Plan%20Amendment%20_Bvanderbiltii.pdf | Edwin E. Muñiz, 787-851-7297, edwin_muniz@fws.gov | Caribbean Ecological Services Field Office, P.O. Box 1600, Rio Grande, PR 00745.
Vahl's boxwood | Buxus vahlii | E | Puerto Rico | Vahl's Boxwood (Buxus vahlii) Recovery Plan ² | https://ecos.fws.gov/docs/recovery_plan/draftRecovery%20Plan%20Amendment%20Buxus%20vahlii.pdf
No common name | Cordia bellonis | E | Puerto Rico | Recovery Plan for Cordia bellonis ² | https://ecos.fws.gov/docs/recovery_plan/draft_Recovery%20Plan%20Amendment%20Cordia%20Bellonis.pdf
Elfin tree fern | Cyathea dryopteroides | E | Puerto Rico | Ilex cookii and Cyathea dryopteroides Recovery Plan ² | https://ecos.fws.gov/docs/recovery_plan/Final%20Draft_Amendment_Cyathea_Ilex%20cooki.pdf
Cook's holly | Ilex cookii | E |  |  |
No common name | Eugenia woodburyana | E | Puerto Rico | Recovery Plan for Mitracarpus maxwelliae, Mitracarpus polycladus, and Eugenia woodburyana ² | https://ecos.fws.gov/docs/recovery_plan/Mitracarpus%20and%20Eugenia%20woodburyana_Final%20draft%20Amendment.pdf
No common name | Mitracarpus maxwelliae | E
No common name | Mitracarpus polycladus | E
Beautiful goetzea | Goetzea elegans | E | Puerto Rico | Beautiful Goetzea Recovery Plan ² | https://ecos.fws.gov/docs/recovery_plan/Beautiful%20goetzea_FINAL%20draft%20recovery%20plan%20amendment.pdf
Higo chumbo | Harrisia portoricensis | T | Puerto Rico | Recovery Plan for Higo Chumbo (Harrisia portoricensis) ² | https://ecos.fws.gov/docs/recovery_plan/Harrisia_final%20Draft%20Amendment.pdf
No common name | Leptocereus grantianus | E | Puerto Rico | Leptocereus grantianus Recovery Plan ² | https://ecos.fws.gov/docs/recovery_plan/Leptocereus%20Final%20draft%20Amendment.pdf
Erubia | Solanum drymophilum | E | Puerto Rico | Solanum drymophilum Recovery Plan ² | https://ecos.fws.gov/docs/recovery_plan/Erubia_Final%20draft%20Recovery%20Plan%20Amendment.pdf
Bariaco | Trichilia triacantha | E | Puerto Rico | Bariaco (Trichilia triacantha) Recovery Plan ² | https://ecos.fws.gov/docs/recovery_plan/Trichilia%20triacantha_Final%20Draft%20Amendment.pdf
St. Croix ground lizard | Ameiva polops | E | U.S. Virgin Islands | Recovery Plan for the St. Croix Ground Lizard, Ameiva polops ² | https://ecos.fws.gov/docs/recovery_plan/St%20Croix%20ground%20lizard_final%20Draft%20Amendment.pdf
Thomas' lidflower | Calyptranthes thomasiana | E | U.S. Virgin Islands | Recovery Plan for the Calyptranthes thomasiana ² | https://ecos.fws.gov/docs/recovery_plan/draft%20Recovery%20Plan%20Amendment%20C_thomasiana.pdf
Pacific Southwest Region (California, Nevada, and the Klamath Basin area of Oregon)
San Mateo thornmint | Acanthomintha obovata ssp. duttonii | E | CA | Recovery Plan for Serpentine Soil Species of the San Francisco Bay Area ² | https://ecos.fws.gov/docs/recovery_plan/dAPG%20amendment%20Seven%20Bay%20Area%20Serpentine%20Soil%20Plant%20Species.pdf | Josh Hull, 916-414-6600 fw8sfwocomments@fws.gov | Sacramento Fish and Wildlife Office, 2800 Cottage Way, Sacramento, CA 95825.
Tiburon mariposa lily | Calochortus tiburonensis | T | CA
Fountain thistle | Cirsium fontinale var. fontinale | E | CA
Presidio clarkia | Clarkia franciscana | E | CA
Pennell's bird's-beak | Cordylanthus tenuis ssp. capillaris | E | CA
San Mateo woolly sunflower | Eriophyllum latilobum | E | CA
Tiburon jewelflower | Streptanthus niger | E | CA
Large-flowered fiddleneck | Amsinckia grandiflora | E | CA | Large-Flowered Fiddleneck (Amsinckia grandiflora) Recovery Plan ² | https://ecos.fws.gov/docs/recovery_plan/dAPG%20amendment%20Large-flowered%20fiddleneck.pdf
Presidio manzanita | Arctostaphylos hookeri var. ravenii | E | CA | Recovery Plan for Coastal Plants of the Northern San Francisco Peninsula ² | https://ecos.fws.gov/docs/recovery_plan/dAPG%20amendment%20Ravens%20Manzanita.pdf
San Bruno elfin butterfly | Callophrys mossii bayensis | E | CA | Recovery Plan for the San Bruno Elfin and Mission Blue Butterflies ² | https://ecos.fws.gov/docs/recovery_plan/dAPG%20amendment%20Mission%20blue%20and%20San%20Bruno%20elfin%20butterflies.pdf
Mission blue butterfly | Icaricia icarioides missionensis | E | CA
Sonoma spineflower | Chorizanthe valida | E | CA | Recovery Plan for Seven Coastal Plants and the Myrtle's Silverspot Butterfly ² | https://ecos.fws.gov/docs/recovery_plan/DAPG%20Amendment%20Sonoma%20spineflower.pdf
Valley elderberry longhorn beetle | Desmocerus californicus dimorphus | T | CA | Draft Revised Recovery Plan for Valley Elderberry Longhorn Beetle ³ | https://ecos.fws.gov/docs/recovery_plan/Draft%20Revised%20RP%20for%20Valley%20Elderberry%20Longhorn%20Beetle.pdf
Pine Hill flannelbush | Fremontodendron californicum ssp. decumbens | E | CA | Recovery Plan for Gabbro Soil Plants of the Central Sierra Nevada Foothills² | https://ecos.fws.gov/docs/recovery_plan/Draft%20APG%20amendment%20El%20Dorado%20bedstraw%20and%20Pine%20Hill%20flannelbush.pdf
El Dorado bedstraw | Galium californicum ssp. sierrae | E | CA
Light-footed clapper rail | Rallus longirostris levipes | E | CA | Light-footed Clapper Rail Recovery Plan ² | https://ecos.fws.gov/docs/recovery_plan/dAPG%20Amendment%20for%20LFRR.pdf | Bradd Bridges, 760-461-9440, fw8cfwocomments@fws.gov | Carlsbad Fish and Wildlife Office, 2177 Salk Avenue, Suite 250, Carlsbad, CA 92008.
Delhi sands flower-loving fly | Rhaphiomidas terminatus abdominalis | E | CA | Recovery Plan for the Delhi Sands Flower-Loving Fly ² | https://ecos.fws.gov/docs/recovery_plan/dAPG%20Amendment%20for%20DSFF.pdf
Steamboat buckwheat | Eriogonum ovalifolium var. williamsiae | E | NV | Steamboat Buckwheat Recovery Plan ² | https://ecos.fws.gov/docs/recovery_plan/dAPG%20Amendment%20for%20EROVW.pdf | Carolyn Swed, 775-861-6300, fw8renofwo@fws.gov | Reno Fish and Wildlife Office, 1340 Financial Boulevard, Suite 234, Reno, NV 89502.
¹ E = endangered; T = threatened.
² Denotes a recovery plan amendment in the “Recovery Plan Name” column.
³ Denotes a full recovery plan revision in the “Recovery Plan Name” column.

How do I ask questions or provide information?

If you wish to provide information for any species listed above, please submit your comments and materials to the appropriate contact in the table above. You may also direct questions to those contacts. Individuals who are hearing impaired or speech impaired may call the Federal Relay Service at 800-877-8339 for TTY assistance.

Request for Public Comments

We request written comments on the draft recovery plan modifications. We will consider all comments we receive by the date specified in DATES prior to final approval of the plans.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act (16 U.S.C. 1533(f)).

Dated: May 20, 2019.
Margaret E. Everson,
Principal Deputy Director, U.S. Fish and Wildlife Service, Exercising the Authority of the Director, U.S. Fish and Wildlife Service.

[FR Doc. 2019-13708 Filed 6-26-19; 8:45 am]

BILLING CODE 4333-15-P